DEPARTMENT OF THE INTERIOR

Bureau of Indian Affairs

Gaming on Trust Lands Acquired After October 17, 1988

AGENCY: Bureau of Indian Affairs, Interior.

ACTION: Notice of consultation with tribal governments.

SUMMARY: On March 15, 2006, a letter was mailed to Tribal Leaders to provide consultation with tribal governments on the development of proposed regulations which will establish standards for implementing Section 20 of the Indian Gaming Regulatory Act.

FOR FURTHER INFORMATION CONTACT: George Skibine, Office of Indian Gaming Management, Acting Deputy Assistant Secretary—Policy and Economic Development, Mail Stop 3657-MIB, 1849 C Street, NW., Washington, DC 20240; Telephone (202) 219-4066.

SUPPLEMENTARY INFORMATION: In accordance with Executive Order 13175, the Department of the Interior will engage in consultation with tribal governments on the development of proposed regulations which will establish standards for implementing Section 20 of the Indian Gaming Regulatory Act. In keeping with the policy commitment of the Department of the Interior on government-to-government consultation, we will conduct consultation sessions and receive input on the proposed regulations on the dates and locations as set forth in the attached March 15, 2006 letter.

Dated: April 4, 2006.
James E. Cason,
Associate Deputy Secretary.

BILLING CODE 4310-4N-P

[FR Doc. 06-3477 Filed 4-10-06; 8:45 am]

BILLING CODE 4310-4N-C